DEPARTMENT OF EDUCATION

[Docket No. ED-2022-SCC-0092]

Agency Information Collection Activities; Comment Request; Charter School Programs Application: State Entity Grants, Developer Grants, and Charter Management Organization Grants

AGENCY: Office of Elementary and Secondary Education (OESE), Department of Education (Department or ED).

ACTION: Notice.

SUMMARY: In accordance with the Paperwork Reduction Act of 1995 ED is requesting the Office of Management and Budget (OMB) to conduct review of an extension of an information collection.

DATES: The Department requested emergency processing from OMB for this information collection request (ICR) and received approval on July 5, 2022; and therefore, the regular clearance process is hereby being initiated to provide the public with the opportunity to comment under the full comment period. Interested persons are invited to submit comments on or before September 2, 2022.

ADDRESSES: Written comments and recommendations for proposed information collection requests should be sent within 30 days of publication of this notice to www.reginfo.gov/public/do/PRAMain. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to these information collection activities, please contact Stephanie Jones, 202-453-7835.

SUPPLEMENTARY INFORMATION: The Department, in accordance with the PRA (44 U.S.C. 3506©(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed ICR that is described below. The Department is especially interested in public comments addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Charter School Programs Application: State Entity Grants, Developer Grants, and Charter Management Organization Grants.

OMB Control Number: 1810-0767.

Type of Review: Extension of an information collection.

Respondents/Affected Public: State, Local, and Tribal Governments.

Total Estimated Number of Annual Responses: 365.

Total Estimated Number of Annual Burden Hours: 21,900.

Abstract: The Expanding Opportunity Through Quality Charter Schools Program (CSP) is authorized under Title IV, Part C of the Elementary and Secondary Education Act of 1965, as amended by the Every Student Succeeds Act (20 U.S.C. 7221-7221j). On March 14, 2022, the Department published in the Federal Register a Notice of Proposed Priorities, Requirements, Definitions, and Selection Criteria for CSP Grants to State Entities (SE Grants), Grants to Charter Management Organizations for the Replication and Expansion of High-Quality Charter Schools (CMO Grants), and Grants to Charter School Developers for the Opening of New Charter Schools and for the Replication and Expansion of High-Quality Charter Schools (Developer Grants) (Vol. 87, No. 49, pages 14197-14210) (CSP NPP). Specifically, the Department proposed new priorities, application requirements, assurances, definitions, and selection criteria to create results-driven policies to help promote positive student outcomes, student and staff diversity, educator and community empowerment, promising practices, and accountability, including fiscal transparency and responsibility, in charter schools supported with CSP funds, which can serve as models for other charter schools. Based on the CSP NPP and public comments, the Department issued a notice of final priorities, requirements, definitions, and selection criteria for CSP SE Grants, CMO Grants and Developer Grants (CSP NFP), which published in the Federal Register on July 1, 2022. The final priorities, requirements, definitions, and selection criteria in the CSP NFP are intended to supplement existing statutory and regulatory requirements governing CSP SE Grants, CMO Grants, and Developer Grants. The Charter School Programs Office of the Department is requesting continued approval of this information collection for CSP SE Grants, CMO Grants, and Developer Grants generally; and for the CSP NFP, which requires the submission of a needs analysis and information regarding contracts with for-profit management organizations. The CSP (Assistance Listing Numbers (ALN) 84.282, including SE Grants (84.282A), CMO Grants (84.282M), and Developer Grants (84.282B and 84.282E)) is a competitive discretionary grant program. The grant applications submitted for this program are evaluated based on how well an applicant addresses the selection criteria (and any competitive preference priorities) and are used to determine applicant eligibility and award amounts for projects selected for funding.

Dated: July 28, 2022.
Kun Mullan,
PRA Coordinator, Strategic Collections and Clearance, Governance and Strategy Division, Office of Chief Data Officer, Office of Planning, Evaluation and Policy Development.

[FR Doc. 2022-16544 Filed 8-2-22; 8:45 am]

BILLING CODE 4000-01-P